DEPARTMENT OF STATE

[Public Notice 6164]

Meeting of Advisory Committee on International Communications and Information Policy

The Department of State's Advisory Committee on International Communications and Information Policy (ACICIP) will hold a public meeting on April 17, 2008, from 10 a.m. to 11:30 a.m., in the Loy Henderson Auditorium of the Harry S. Truman Building of the U.S. Department of State. The Truman Building is located at 2201 C Street, NW., Washington, DC 20520.

The committee provides a formal channel for regular consultation and coordination on major economic, social and legal issues and problems in international communications and information policy, especially as these issues and problems involve users of information and communications services, providers of such services, technology research and development, foreign industrial and regulatory policy, the activities of international organizations with regard to communications and information, and developing country issues.

The meeting will be led by ACICIP Chair Mr. Richard E. Wiley of Wiley Rein LLP and Ambassador David A. Gross, Deputy Assistant Secretary of State and U.S. Coordinator for International Communications and Information Policy.

The meeting's agenda will include discussions pertaining to various upcoming international telecommunications meetings and conferences. In particular, there will be a report on preparations by the U.S. Delegation for the APEC Ministerial Meeting on Telecommunications and Information Industry to be held in Bangkok from April 23-25, 2008. Additionally, there will be reports and discussion concerning recent meetings between the U.S. and various government and industry during the recent GSMA Mobile World Congress in Barcelona as well as CTIA Wireless 2008 in Las Vegas. There will also be discussion about additional upcoming events, including the OECD Ministerial on the Future of the Internet Economy to be held in Seoul in June and the International Telecommunication Union's Telecom Africa 2008 to be held in Cairo in May. And there will also be discussion further to the last meeting of the ACICIP on a conference that will be led by the President's Digital Freedom Initiative (a public-private partnership) that is expected to be held in July 2008 and will focus on promoting broadband access in West Africa.

Members of the public may submit suggestions and comments to the ACICIP. Submissions regarding an event, consultation, meeting, etc. listed in the agenda above should be received by the ACICIP Executive Secretary (contact information below) at least ten working days prior to the date of that listed event. All comments must be submitted in written form and should not exceed one page for each country (for comments on consultations) or for each subject area (for other comments). Resource limitations preclude acknowledging or replying to submissions.

While the meeting is open to the public, admittance to the Department of State building is only by means of a pre-clearance. For placement on the pre-clearance list, please submit the following information no later than 5 p.m. on Monday, April 14, 2008 (Please note that this information is not retained by the ACICIP Executive Secretary and must therefore be re-submitted for each ACICIP meeting):

I. State that you are requesting pre-clearance to a meeting.

II. Provide the following information:

1. Name of meeting and its date and time.

2. Visitor's full name.

3. Company/Agency/Organization.

4. Title at Company/Agency/Organization.

5. Date of birth.

6. Citizenship.

7. Acceptable forms of identification for entry into the U.S. Department of State include:

• U.S. driver's license with photo.

• Passport.

• U.S. government agency ID.

8. ID number on the ID visitor will show upon entry.

Send the above information to Emily Yee by fax (202) 647-5957 or e-mail YeeE@state.gov.

Privacy Act Statement: The above information is sought pursuant to 5 U.S.C. 301 and 22 U.S.C. 2651a, 4802(a). The principal purpose for collecting the information is to assure protection of U.S. Department of State facilities. The information provided also may be released to federal, state or local agencies for law enforcement, counter-terrorism or homeland security purposes, or to other federal agencies for certain personnel and records management matters. Providing this information is voluntary but failure to do so may result in denial of access to U.S. Department of State facilities.

All visitors for this meeting must use the 23rd Street entrance. The valid ID bearing the number provided with your pre-clearance request will be required for admittance. Non-U.S. government attendees must be escorted by Department of State personnel at all times when in the building.

For further information, please contact Emily Yee, Executive Secretary of the Committee, at (202) 647-5205 or YeeE@state.gov.

General information about ACICIP and the mission of International Communications and Information Policy is available at: http://www.state.gov/e/eeb/adcom/c667.htm.

Dated: March 18, 2008.
Emily Yee,
ACICIP Executive Secretary, Department of State.

[FR Doc. E8-6677 Filed 3-31-08; 8:45 am]

BILLING CODE 4710-07-P